DEPARTMENT OF JUSTICE

Drug Enforcement Administration

Manufacturer of Controlled Substances; Notice of Application

Pursuant to § 1301.33(a) of Title 21 of the Code of Federal Regulations (CFR), this is notice that on February 24, 2004, Varian, Inc. Lake Forest, 25200 Commercentre Drive, Lake Forest, California 92630-8810, made application by renewal to the Drug Enforcement Administration (DEA) for registration as a bulk manufacturer of the basic classes of controlled substances listed below.

Drug | Schedule
Phencyclidine (7471) | II
1-Piperidinocyclohexanecarbonitrile (8603) | II
Benzoylecgonine (9180) | II

The firm plans to manufacture small quantities of controlled substances for use in diagnostic products. Any other such applicant and any person who is presently registered with DEA to manufacture such substance may file comments or objections to the issuance of the proposed registration.

Any such comments or objections may be addressed, in quintuplicate, to the Deputy Assistant Administrator, Office of Diversion Control, Drug Enforcement Administration, United States Department of Justice, Washington, DC 20537, Attention: Federal Register Representative, Office of Chief Counsel (CCD) and must be filed no later than June 25, 2004.

Dated: May 5, 2004.
William J. Walker,
Deputy Assistant Administrator, Office of Diversion Control, Drug Enforcement Administration.

[FR Doc. 04-11819 Filed 5-25-04; 8:45 am]

BILLING CODE 4410-09-M